DEPARTMENT OF COMMERCE

International Trade Administration

[A-580-809]

Circular Welded Non-Alloy Steel Pipe From the Republic of Korea: Final Results of the Antidumping Duty Administrative Review

AGENCY: Import Administration, International Trade Administration, Department of Commerce.

SUMMARY: On December 14, 2010, the Department of Commerce (the “Department”) published the preliminary results of the administrative review of the antidumping duty order on circular welded non-alloy steel pipe (“CWP”) from the Republic of Korea (“Korea”), covering the period November 1, 2008, through October 31, 2009. This review covers six producers/exporters of the subject merchandise to the United States: SeAH Steel Corporation (“SeAH”); Husteel Co., Ltd. (“Husteel”); Nexteel Co. Ltd. (“Nexteel”); Hyundai HYSCO; Kumkang Industrial Co., Ltd.; and A-JU Besteel Co., Ltd. SeAH, Husteel, and Nexteel were the three mandatory respondents. We gave the interested parties an opportunity to comment on the preliminary results. Based on our analysis of the comments received, we have made changes to the margin calculations. The final weighted-average dumping margins for the reviewed firms are listed below in the section entitled “Final Results of Review.”

DATES: Effective Date: June 21, 2011.

FOR FURTHER INFORMATION CONTACT: Joshua Morris or Matthew Jordan, AD/CVD Operations, Office 1, Import Administration, International Trade Administration, U.S. Department of Commerce, 14th Street and Constitution Avenue, NW., Washington, DC 20230; telephone (202) 482-1779 or (202) 482-1540, respectively.

SUPPLEMENTARY INFORMATION:

Background

Following publication of Circular Welded Non-Alloy Steel Pipe From the Republic of Korea: Preliminary Results of the Antidumping Duty Administrative Review, 75 FR 77838 (December 14, 2010) (“Preliminary Results”) in the Federal Register, we invited parties to comment on the Preliminary Results. On January 10, 2011, we received a request from United States Steel Corporation (“U.S. Steel”) to extend the deadline for submitting case briefs. We agreed to extend the deadline to January 31, 2011. We received case briefs from SeAH; Husteel; Nexteel; and U.S. Steel. Nexteel's initial case brief contained new factual information, and was thus not accepted. Nexteel removed the new factual information and resubmitted its case brief on February 16, 2011. We received rebuttal briefs from Nexteel; Allied Tube and Conduit and TMK IPSCO (“Allied Tube Group”); SeAH; and U.S. Steel.

On March 1, 2011, the Department sought further information from all interested parties regarding grade classification, particularly with respect to ASTM A-53 Grade A and ASTM A-53 Grade B pipe. We received information from SeAH; Nexteel; Nexteel's U.S. customer; U.S. Steel; Allied Tube Group; and Hyundai HYSCO. The Department allowed for further briefing regarding this grade issue, and we received submissions from SeAH; Nexteel; U.S. Steel; Allied Tube Group; and Hyundai HYSCO. None of the parties requested a hearing.

On March 22, 2011, the Department published in the Federal Register an extension of the time limit for the completion of the final results of this review until no later than June 13, 2011, in accordance with section 751(a)(3)(A) of the Tariff Act of 1930, as amended (“the Act”), and 19 CFR 351.213(h)(2). See Circular Welded Non-Alloy Steel Pipe From the Republic of Korea: Extension of the Final Results of the Antidumping Duty Administrative Review, 76 FR 15941 (March 22, 2011).

Scope of the Order

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this review.

All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube From Brazil, the Republic of Korea, Mexico, and Venezuela, 61 FR 11608 (March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

All issues raised in the case briefs are addressed in the “Issues and Decision Memorandum for the 2008-2009 Administrative Review of Circular Welded Non-Alloy Steel Pipe from the Republic of Korea” (“Issues and Decision Memorandum”), which is dated concurrently with and hereby adopted by this notice. A list of the issues which parties raised and to which we responded in the Issues and Decision Memorandum is attached to this notice as an Appendix. The Issues and Decision Memorandum is a public document which is on file in the Central Records Unit in room 7046 in the main Department building, and is accessible on the web at http://www.ia.ita.doc.gov/frn. The paper copy and electronic version of the memorandum are identical in content.

Changes Since the Preliminary Results

Based on our analysis of the comments received, we made the following changes in calculating dumping margins: (1) Eliminated the inadvertent double counting of the major input adjustment for SeAH; (2) changed the universe of sales to be used for margin calculation purposes for SeAH and Husteel to all U.S. sales entered for consumption during the period of review; (3) adjusted the costs for ASTM A-53 Grade B control numbers (“CONNUMs”); specifically, for ASTM A-53 Grade B CONNUMs for which there is an otherwise identical ASTM A-53 Grade A CONNUM, we have weight averaged together the costs of the ASTM A-53 Grade A and Grade B CONNUMs (a) for SeAH, all costs by quarter, using production quantity for weighting purposes, and (b) for Nexteel, the variable costs and total costs (where available) using sales quantity for weighting; however, for ASTM A-53 Grade B CONNUMs for which there is no identical ASTM A-53 Grade A CONNUM, we continue to use the cost as reported for ASTM A-53 Grade B, including where other specifications were reported in the same CONNUM as ASTM A-53 Grade B; 4) for Nexteel, changed the CONNUM of ASTM A-53 Grade B sales to reflect the change in classification of ASTM A-53 Grade B from “pressure” to “ordinary” for product comparison purposes.

Cost of Production

Consistent with the Preliminary Results, we disregarded home market sales by SeAH and Husteel that failed the cost-of-production test.

Final Results of the Review

We determine that a weighted-average dumping margin exists for the three mandatory respondents, SeAH, Husteel, and Nexteel, for the period November 1, 2008, through October 31, 2009. Respondents other than mandatory respondents received the weighted-average of the margins calculated for SeAH, Husteel, and Nexteel.

Manufacturer/exporter | Weighted- average margin percent
SeAH Steel Corporation | 4.99
Husteel Co., Ltd | 2.25
Nexteel Co., Ltd | 12.90
Hyundai HYSCO | 8.17
Kumkang Industrial Co., Ltd | 8.17
A-JU Besteel Co., Ltd | 8.17

Public Comment

The Department will disclose calculations performed within five days of the date of publication of this notice to the parties to this proceeding in accordance with 19 CFR 351.224(b).

Assessment Rates

The Department shall determine, and U.S. Customs and Border Protection (“CBP”) shall assess, antidumping duties on all appropriate entries, in accordance with 19 CFR 351.212(b)(1). The Department will issue appropriate appraisement instructions for the companies subject to this review directly to CBP 15 days after the date of publication of these final results of review.

For SeAH and Husteel, we will calculate importer-specific ad valorem duty assessment rates based on the ratio of the total amount of antidumping duties calculated for the examined sales to the total entered value of the sales, as reported by SeAH and Husteel. See 19 CFR 351.212(b)(1).

Nexteel reported the importer of record for certain of its U.S. sales. Pursuant to 19 CFR 351.212(b)(1), for all sales where Nexteel reported the importer of record, Nexteel submitted the reported entered value of the U.S. sales and the Department has calculated importer-specific assessment rates based on the ratio of the total amount of antidumping duties calculated for the examined sales to the total entered value of those sales.

For certain U.S. sales, Nexteel did not report the importer or the entered value. For purposes of calculating importer-specific assessment rates, calculated per-unit duty assessment rates for the merchandise in question by aggregating the dumping margins calculated for all U.S. sales to each importer and dividing this amount by the total quantity of those sales.

To determine whether the duty assessment rates were de minimis, in accordance with the requirement set forth in 19 CFR 351.106(c)(2), the Department calculated importer-specific ad valorem ratios based on the actual or estimated entered value. Where entered values were not reported (for Nexteel), we treated Nexteel's U.S. customer as the importer of record and we calculated entered value as U.S. price net of international movement expenses.

For the companies that were not selected for individual review, we calculated an assessment rate based on the weighted-average of the cash deposit rates calculated for companies selected for individual review, where those rates were not de minimis or based on adverse facts available, in accordance with Department practice.

Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003) (“Assessment Policy Notice”). This clarification will apply to entries of subject merchandise during the period of review produced by companies included in these final results of review for which the reviewed companies did not know that the merchandise they sold to the intermediary (e.g., a reseller, trading company, or exporter) was destined for the United States. In such instances, we will instruct CBP to liquidate unreviewed entries at the all-others rate if there is no rate for the intermediary involved in the transaction. See Assessment Policy Notice for a full discussion of this clarification.

Cash Deposit Requirements

The following deposit rates will be effective upon publication of the final results of this administrative review for all shipments of CWP from Korea entered, or withdrawn from warehouse, for consumption on or after the publication date, as provided by section 751(a)(2)(C) of the Act: (1) The cash deposit rates for the companies listed above will be the rates established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in this review, a prior review, or the original less-than-fair-value (“LTFV”) investigation, but the manufacturer is, the cash deposit rate will be the rate established for the most recent final results for the manufacturer of the merchandise; and (4) if neither the exporter nor the manufacturer is a firm covered in this or any previous review conducted by the Department, the cash deposit rate will be 4.80 percent, the “all others” rate established in the LTFV investigation. See Notice of Antidumping Orders: Certain Circular Welded Non-Alloy Steel Pipe from Brazil, the Republic of Korea, Mexico, and Venezuela, and Amendment to Final Determination of Sales at Less Than Fair Value: Certain Circular Welded Non-Alloy Steel Pipe from Korea, 57 FR 49453 (November 2, 1992). These deposit requirements shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: June 13, 2011.
Paul Piquado,
Acting Deputy Assistant Secretary for Import Administration.

Appendix—Issues in Decision Memorandum

General Issues

Comment 1 Zeroing-Out Negative Dumping Margins

Comment 2 Application of the Cost Recovery Test

Comment 3 Time for Parties To Comment on Methodology

Comment 4 Grade Classification

Comment 5 Universe of Home Market and U.S. Sales for Margin Analysis

SEAH Issues

Comment 6 Double Counting the Major Input Adjustment

Comment 7 Letters of Credit Charges

NEXTEEL Issues

Comment 8 Programming Revisions

[FR Doc. 2011-15453 Filed 6-20-11; 8:45 am]

BILLING CODE 3510-DS-P